DEPARTMENT OF ENERGY

Federal Energy Regulatory Commission

[Docket No. AD17-11-000]

State Policies and Wholesale Markets Operated by ISO New England Inc., New York Independent System Operator, Inc., and PJM Interconnection, L.L.C.; Supplemental Notice of Technical Conference

As announced in a Notice of Technical Conference issued on March 3, 2017, and in a Supplemental Notice of Technical Conference issued on April 13, 2017, Federal Energy Regulatory Commission (Commission) staff will hold a technical conference on Monday, May 1, 2017, and Tuesday, May 2, 2017, to discuss certain matters affecting wholesale energy and capacity markets operated by the Eastern Regional Transmission Organizations (RTOs) and Independent System Operators (ISOs). Each day, the conference will commence at approximately 9:00 a.m. and end at approximately 5:00 p.m. The conference will be held at the Federal Energy Regulatory Commission, 888 First Street NE., Washington, DC 20426. Commissioners may participate in the conference.

The updated agenda for this technical conference, including speakers, is attached. All changes to the agenda since the Commission's April 13, 2017, Supplemental Notice of Technical Conference appear in italics.

All interested persons may attend the conference, and registration is not required. However, in-person attendees are encouraged to register on-line at: https://www.ferc.gov/whats-new/registration/05-01-17-form.asp.

The technical conference will be transcribed. Transcripts will be available from Ace Reporting Company and may be purchased online at www.acefederal.com, or by phone at (202) 347-3700. In addition, there will be a free webcast of the conference. The webcast will allow persons to listen, but not participate and will be accessible at www.ferc.gov' s Calendar of Events. The Capitol Connection provides technical support for the webcast and offers the option of listening to the technical conference via phone-bridge for a fee. If you have any questions, visit www.CapitolConnection.org or call (703) 993-3100.

While this conference is not for the purpose of discussing specific cases, it may address matters at issue in the following Commission proceedings that are pending:

• ISO New England Inc.: See ISO New England Inc., Docket No. ER13-2266-000, et al.; ISO New England Inc., Docket No. ER17-795-000 and ER17-795-001; and ISO New England Inc., Docket No. ER17-1031-000;

• New York Independent System Operator, Inc.: See N.Y. Indep. Sys. Operator, Inc., Docket No. ER16-1404-000; Indep. Power Producers of N.Y., Inc. v. N.Y. Indep. Sys. Operator, Inc., Docket Nos. EL13-62-001 and EL13-62-002; N.Y. Pub. Serv. Comm'n v. N.Y. Indep. Sys. Operator, Inc., Docket No. EL16-92-001; N.Y. Indep. Sys. Operator, Inc., Docket No. ER17-386-002; N.Y. Indep. Sys. Operator, Inc., Docket Nos. ER16-120-001, ER16-120-003, and EL15-37-002;

• PJM Interconnection, L.L.C.: See Calpine Corp., et al. v. PJM Interconnection, L.L.C., Docket No. EL16-49-000; PJM Interconnection, L.L.C., Docket Nos. ER15-623-009, ER15-623-010, EL15-29-006, and EL15-41-002; PJM Interconnection, L.L.C., Docket Nos. ER14-1461-000, ER14-1461-001, ER14-1461-002, EL14-48-000, ER17-367-000, and ER17-367-001.

Commission conferences are accessible under section 508 of the Rehabilitation Act of 1973. For accessibility accommodations please send an email to accessibility@ferc.gov or call toll free (866) 208-3372 (voice) or (202) 502-8659 (TTY), or send a fax to (202) 208-2106 with the requested accommodations.

For further information please contact individuals identified for each topic:

Technical Information

Amr Ibrahim, Office of Energy Policy and Innovation, Federal Energy Regulatory Commission, 888 First Street NE., Washington, DC 20426, (202) 502-6746, amr.ibrahim@ferc.gov.

Legal Information

Gretchen Kershaw, Office of the General Counsel, Federal Energy Regulatory Commission, 888 First Street NE., Washington, DC 20426, (202) 502-8213, gretchen.kershaw@ferc.gov.

Logistical Information

Sarah McKinley, Office of External Affairs, Federal Energy Regulatory Commission, 888 First Street NE., Washington, DC 20426, (202) 502-8368, sarah.mckinley@ferc.gov.

Dated: April 28, 2017.
Kimberly D. Bose,
Secretary.

[FR Doc. 2017-09107 Filed 5-4-17; 8:45 am]

BILLING CODE 6717-01-P